INTERNATIONAL TRADE COMMISSION

[Investigation Nos. 731-TA-1550-1553 (Final)]

Polyester Textured Yarn From Indonesia, Malaysia, Thailand, and Vietnam

Determinations

On the basis of the record ¹ developed in these subject investigations, the United States International Trade Commission (“Commission”) determines, pursuant to the Tariff Act of 1930 (“the Act”), that an industry in the United States is materially injured by reason of imports of polyester textured yarn from Indonesia, Malaysia, Thailand, and Vietnam, provided for in subheadings 5402.33.30 and 5402.33.60 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 58869, 86 FR 58875, 86 FR 58877, 86 FR 58883 (October 25, 2021).

Background

The Commission instituted these investigations effective October 28, 2020, following receipt of petitions filed with the Commission and Commerce by Nan Ya Plastics Corp. America, Lake City, South Carolina, and Unifi Manufacturing, Inc., Greensboro, North Carolina. The Commission scheduled the final phase of the investigations following notification of preliminary determinations by Commerce that imports of polyester textured yarn from Indonesia, Malaysia, Thailand, and Vietnam were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of June 24, 2021 (86 FR 33354). In light of the restrictions on access to the Commission building due to the COVID-19 pandemic, the Commission conducted its hearing through written testimony and video conference on October 14, 2021. All persons who requested the opportunity were permitted to participate.

The Commission made these determinations pursuant to § 735(b) of the Act (19 U.S.C. 1673d(b)). It completed and filed its determinations in these investigations on December 7, 2021. The views of the Commission are contained in USITC Publication 5246 (November 2021), entitled Polyester Textured Yarn from Indonesia, Malaysia, Thailand, and Vietnam: Investigation Nos. 731-TA-1550-1553 (Final).

By order of the Commission.
Issued: December 8, 2021.
Lisa Barton,
Secretary to the Commission.

[FR Doc. 2021-26905 Filed 12-10-21; 8:45 am]

BILLING CODE 7020-02-P